DEPARTMENT OF TRANSPORTATION

Federal Aviation Administration

14 CFR Part 39

[Docket No. 2002-SW-58-AD; Amendment 39-13343; AD 2003-21-08]

RIN 2120-AA64

Airworthiness Directives; Eurocopter France Model AS332C, AS332L, AS332L1, and AS332L2 Helicopters

AGENCY: Federal Aviation Administration, DOT.

ACTION: Final rule.

SUMMARY: This amendment adopts a new airworthiness directive (AD) for the specified Eurocopter France (Eurocopter) model helicopters that requires inspecting certain main rotor blades for disbonds, which may be indicated by cracking, and repairing or replacing each main rotor blade (MRB) as necessary. This amendment is prompted by the discovery of disbonded leading edge protective strips. The actions specified by this AD are intended to detect disbonding between the stainless steel protective strip and the MRB skin, which could cause loss of the protective strip, an out-of-balance condition, and subsequent loss of control of the helicopter.

DATES: Effective November 28, 2003.

The incorporation by reference of certain publications listed in the regulations is approved by the Director of the Federal Register as of November 28, 2003.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION: A proposal to amend 14 CFR part 39 to include an AD for the specified model helicopters was published in the Federal Register on July 16, 2003 (68 FR 41970). That action proposed to require inspecting each MRB for disbonding within 100 hours time-in-service (TIS) and repairing or replacing each MRB as necessary. That action also proposed repetitive inspections at different intervals, based on the MRB serial number.

The Direction Generale De L'Aviation Civile (DGAC), the airworthiness authority for France, notified the FAA that an unsafe condition may exist on Eurocopter Model AS332 C, L, and L1 helicopters. The DGAC advises that checking each MRB to ensure the adhesion of the glass cloth blade cap, which is located between the MRB skin and the leading edge stainless steel protective strips, is necessary.

Eurocopter has issued AS 332 Service Bulletin 05.00.22, Revision 4, dated April 6, 2000, for the Model AS332C, L, L1, and L2 helicopters, which specifies checking for cracking developing spanwise along the stainless steel leading edge over a chordwise width of 0 to 6mm aft of the stainless steel strip on the MRB upper and lower surfaces. If spanwise cracking is found that is greater than 30mm or if the distance between two cracks is less than 40mm, a sound check using a tapping method to check the bonding is specified. If disbonding is present, measuring the depth of each disbond with a feeler gauge is specified. If the depth of the disbond exceeds 10mm, returning the MRB to the works for repair is specified. If no disbonding is present, or if the disbond is less than 10mm, reconditioning the MRB by removing the cracked caulking material and recaulking the blade is specified. The DGAC classified this service bulletin as mandatory and issued AD 1988-099-035(A) R5, dated June 14, 2000, to ensure the continued airworthiness of certain of these helicopters in France.

Interested persons have been afforded an opportunity to participate in the making of this amendment. No comments were received on the proposal or the FAA's determination of the cost to the public. With the exception of a change in the point of contact under the caption FOR FURTHER INFORMATION CONTACT, the FAA has determined that air safety and the public interest require the adoption of the rule as proposed; the change will neither increase the economic burden on any operator nor increase the scope of the AD.

On July 10, 2002, the FAA issued a new version of 14 CFR part 39 (67 FR 47997, July 22, 2002), which governs the FAA's AD system. The regulation now includes material that relates to altered products, special flight permits, and alternative methods of compliance. However, for clarity and consistency in this final rule, we have retained the language of the NPRM regarding that material.

The FAA estimates that this AD will affect 3 helicopters of U.S. registry, that it will take approximately 2 work hours per helicopter to inspect each MRB (8 hours per helicopter), and 6 work hours to remove and replace 2 MRB's per helicopter. The average labor rate is $65 per work hour. The estimated cost of parts is $50,000 for each blade. Based on these figures, the total cost impact of the proposed AD on U.S. operators is estimated to be $302,730.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-21-08 Eurocopter France: Amendment 39-13343. Docket No. 2002-SW-58-AD.

Applicability:

Group 1: Model AS332C, L, and L1 helicopters with main rotor blade (MRB), part number (P/N) 332A11-0022-00 through -03; P/N 332A11-0022-04, except those incorporating MOD 0740596; P/N 332A11-0024-00 through -05; and P/N 332A11-0025-00 through -05, installed certificated in any category.

Group 2: Model AS332C, L, and L1 helicopters with MRB, P/N 332A11-0022-04, that incorporates MOD 0740596; P/N 332A11-0024-06 and all higher dash numbers; and P/N 332A11-0025-06 and all higher dash numbers; and Model AS332L2 helicopters with MRB, P/N 332A11-0040 all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Helicopters listed in “Group 1” of the “Applicability” section of this AD, comply within 100 hours time-in-service (TIS) and thereafter at intervals not to exceed 100 hours TIS for MRB's having a serial number listed in the following table:

126 | 127 | 131 | 132 | 134 | 137 | 139 | 154 | 156 | 160
162 | 168 | 171 | 176 | 196 | 208 | 209 | 211 | 219 | 223
224 | 225 | 226 | 242 | 253 | 261 | 272 | 310 | 327 | 342
377 | 378 | 379 | 381 | 383 | 386 | 391 | 392 | 394 | 395
398 | 399 | 404 | 419 | 422 | 423 | 424 | 425 | 426 | 443
455 | 456 | 458 | 462 | 482 | 668 | 744 | 885 | 909 | 1019
1031 | 1032 | 1033 | 1036 | 1051 | 1055 | 1061 | 1070 | 1099 | 1101
1106 | 1117 | 1151 | 1155 | 1157 | 1158 | 1162 | 1167 | 1168 | 1169
1186 | 1198 | 1201 | 1205 | 1210 | 1213 | 1242 | 1246 | 1248 | 1268
1332 | 1410 | 1524

For helicopters listed in “Group 1” of the “Applicability” section of this AD, with MRB's having a serial number not listed in the previous table, comply within 100 hours TIS, and thereafter at intervals not to exceed 250 hours TIS.

For helicopters listed in “Group 2” of the “Applicability” section of this AD, with MRB's having 400 or more hours TIS, comply within 100 hours TIS, and thereafter at intervals not to exceed 500 hours TIS; and

For helicopters listed in “Group 2” of the “Applicability” section of this AD, with MRB's having less than 400 hours TIS, comply prior to the MRB's accumulating 500 hours TIS, and thereafter at intervals not to exceed 500 hours TIS.

To detect disbonding between the stainless steel protective strip and the MRB skin, which could cause loss of the protective strip, an out-of-balance condition, and subsequent loss of control of the helicopter, accomplish the following:

(a) Inspect each MRB for disbonding in accordance with paragraph 2.B.1. of the Accomplishment Instructions in Eurocopter AS 332 Service Bulletin No. 05.00.22, Revision 4, dated April 6, 2000 (SB).

(b) If there is spanwise cracking which exceeds 30mm (1.18 inches) or there are 2 or more cracks with less than 40mm (1.57 inches) spacing, remove or support the MRB, remove any protective shield, and perform a tapping test on the leading edge of the MRB.

(c) If the tapping test does not indicate a disbond, repair the crack in accordance with paragraph 2.B.2.a) of the Accomplishment Instructions in the SB and recaulk and apply touch-up paint in accordance with paragraph 2.B.3. of the Accomplishment Instructions in the SB.

(d) If the tapping test indicates a disbond, measure the depth of the disbond in accordance with paragraph 2.B.2.b) and 2.B.2.c) of the Accomplishment Instructions in the SB.

(1) If disbonding is less than 10mm in depth, repair the crack in accordance with paragraph 2.B.2.a) of the Accomplishment Instructions in the SB, and recaulk and apply touch-up paint in accordance with paragraph 2.B.3. of the Accomplishment Instructions in the SB.

(2) If disbonding is 10mm or greater in depth, the MRB is unairworthy and must be replaced before further flight.

(e) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 2: Information concerning the existence of approved alternative methods of compliance with this AD, if any, may be obtained from the Safety Management Group.

(f) Special flight permits may be issued in accordance with 14 CFR 21.197 and 21.199 to operate the helicopter to a location where the requirements of this AD can be accomplished.

(g) The inspections and repairs of the MRB shall be done in accordance with the Accomplishment Instructions in Eurocopter France AS 332 Service Bulletin No. 05.00.22, Revision 4, dated April 6, 2000. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(h) This amendment becomes effective on November 28, 2003.

Note 3: The subject of this AD is addressed in Direction Generale De L'Aviation Civile (France) AD 1988-099-035(A) R5, dated June 14, 2000.

Issued in Fort Worth, Texas, on October 9, 2003.
Mark R. Schilling,
Acting Manager, Rotorcraft Directorate, Aircraft Certification Service.

[FR Doc. 03-26466 Filed 10-23-03; 8:45 am]

BILLING CODE 4910-13-P